DEPARTMENT OF HEALTH AND HUMAN SERVICES

Centers for Disease Control and Prevention

Board of Scientific Counselors, National Institute for Occupational Safety and Health: Meeting

In accordance with section 10(a)(2) of the Federal Advisory Committee Act (Public Law 92-463), the Centers for Disease Control and Prevention (CDC) announces the following committee meeting:

Name: Board of Scientific Counselors (BSC), National Institute for Occupational Safety and Health (NIOSH).

Time and Date: 9 a.m.-2:45 p.m., October 18, 2006.

Place: The Watergate Hotel, 2650 Virginia Avenue, NW., Washington, DC 20037.

Status: Open to the public, limited only by the space available. The meeting room accommodates approximately 50 people.

Purpose: The Board shall provide advice to the Director, NIOSH on research and prevention programs. Specifically, the Board shall provide guidance on the Institute's research activities related to developing and evaluating hypotheses, systematically documenting findings and disseminating results. The Board shall evaluate the degree to which the activities of NIOSH conform to appropriate scientific standards; address current and relevant needs; and produce intended results.

Matters To Be Discussed: Agenda items include a health hazard evaluation program review, an update on the economics of occupational safety and health, and an update on flavorings-related lung disease prevention efforts.

Agenda items are subject to change as priorities dictate.

Contact Person For More Information: Roger Rosa, Executive Secretary, BSC, NIOSH, 200 Independence Avenue, SW., Room 715H, Washington, DC 20201, telephone (202) 205-7856, fax (202) 260-4464.

The Director, Management Analysis and Services Office, has been delegated the authority to sign Federal Register notices pertaining to announcements of meetings and other committee management activities, for both CDC and the Agency for Toxic Substances and Disease Registry.

Dated: September 13, 2006.
Alvin Hall,
Director, Management Analysis and Services Office, Centers for Disease Control and Prevention.

[FR Doc. 06-7984 Filed 9-19-06; 8:45 am]

BILLING CODE 4163-18-P